DEPARTMENT OF THE INTERIOR

Fish and Wildlife Service

Draft Environmental Impact Statement; Notice of Availability

AGENCY: Fish and Wildlife Service.

ACTION: Notice of availability.

SUMMARY: This notice advises the public that a draft environmental impact statement (Draft EIS) for the comprehensive conservation plan and boundary revision for the Stillwater National Wildlife Refuge (NWR) Complex located in Churchill and Washoe Counties, Nevada will be available for public review beginning April 14, 2000. Stillwater NWR Complex includes Stillwater NWR, Stillwater Wildlife Management Area (WMA), Fallon NWR, and Anaho Island NWR. Comments and suggestions are invited. All comments, including names and addresses will become part of the administrative record and may be released.

DATES: The comment period for this Draft EIS will extend from April 14, 2000 to June 12, 2000. Comments received will be considered during preparation of the Final Environmental Impact Statement. Open house meetings will be held on April 26 and 27, 2000 (see below for details on locations).

ADDRESSES: Comments should be addressed to: Kim Hanson, Refuge Manager, Stillwater National Wildlife Refuge, P.O. Box 1236, Fallon, Nevada 89407, (775) 423-5128. The open-house schedule is: April 26, 2000, from 3:00 to 7:30 p.m. at the Fallon Convention Center, 100 Campus Way, Fallon, Nevada and April 27, 2000, from 3:00 to 7:30 p.m. at the Department of the Interior Building, 1340 Financial Boulevard, Reno, Nevada.

Copies of the Draft EIS may be inspected at the following locations: U.S. Fish and Wildlife Service, Division of Planning, Eastside Federal Complex, 911 N.E. 11th Avenue, Portland, Oregon 97232-4181; Stillwater NWR Complex, 1000 Auction Road, Fallon, NV 89406; Churchill County Library, 553 South Main Street, Fallon, NV 89406; Carson City Library, 900 North Roop Street, Carson City, NV 89701; Downtown Reno Library, 301 S. Center Street, Reno, NV 89501. Individuals wishing to receive a copy of the Draft EIS or Summary for review should immediately contact the Stillwater NWR office (address and phone number provided above). The Summary document can be viewed on the Service's regional web site: www:r1/fws/gov/planning/plnhome.html/.

FOR FURTHER INFORMATION CONTACT: Kim Hanson, Stillwater NWR Complex (775-423-5128) or Don DeLong, CA/NV Refuge Planning Office (916-414-6500).

SUPPLEMENTARY INFORMATION: The Stillwater NWR Complex currently includes Stillwater NWR, Stillwater Wildlife Management Area (WMA), Fallon NWR, which are located in west-central Nevada, about six miles northeast of Fallon, Churchill County, and Anaho Island NWR, located about 30 miles northeast of Reno, Nevada, in Washoe County. Stillwater NWR is about 79,570 acres of Federal land, Stillwater WMA about 65,603 acres, and Fallon NWR about 17,848 acres, for a combined total of 163,021 acres of Federal land. Non-Federal inholdings within the approved boundaries are about 59,708 acres. Anaho Island NWR encompasses the entire island, which has fluctuated in size from 220 to 745 acres in recent history due to the fluctuating water levels of Pyramid Lake. In July 1997, it was an estimated 575 acres.

Anaho Island NWR was established in 1913 by Executive Order 1819 as a “* * * preserve and breeding ground for native birds.” Public Law 101-618 (§ 210(b)(2)) more narrowly defined the purpose of Anaho Island NWR, stating that it was to be managed and administered “* * * for the benefit and protection of colonial-nesting species and other migratory birds.” The Public Law also recognized that Anaho Island NWR is part of the Pyramid Lake Indian Reservation, but it is to be managed and administered by the Service as a component of the National Wildlife Refuge System (Refuge System).

Fallon NWR was established in 1931 by Executive Order 5606 “as a refuge and breeding ground for birds and other wild animals.” It is located at the terminus of the Carson River and encompasses the delta wetlands of the river.

Stillwater WMA and Stillwater NWR were established through a 50-year agreement (Tripartite Agreement) signed in 1948 by the Truckee-Carson Irrigation District (TCID), Nevada State Board of Fish and Game Commissioners (Nevada Division of Wildlife), and the Service. Although the Tripartite Agreement expired on November 26, 1998, the Service continues to cooperatively manage the Stillwater WMA with the U.S. Bureau of Reclamation under most provisions of the Tripartite Agreement. Stillwater WMA, comprised mainly of U.S. Bureau of Reclamation withdrawn public lands, was established in 1948 for the purposes of conserving and managing wildlife and their habitat, and for public hunting. Stillwater NWR was established in 1949 as a wildlife sanctuary (closed to hunting) adjacent to the public hunting area.

In 1990, the approved boundary of Stillwater NWR was expanded, under subsection 206(b)(1) of the Truckee-Carson-Pyramid Lake Water Rights Settlement Act (Title II of Pub. L. 101-618), to encompass Stillwater Marsh, most of which was previously in the Stillwater WMA. In addition to the boundary expansion, Public Law 101-618 also outlined four purposes for which the Service must manage Stillwater NWR: (1) maintaining and restoring natural biological diversity within the refuge; (2) providing for the conservation and management of fish and wildlife and their habitats within the refuge; (3) fulfilling international treaty obligations of the United States with respect to fish and wildlife; and (4) providing opportunities for scientific research, environmental education, and fish and wildlife-oriented recreation.

Each alternative in the Draft EIS consists of two main parts: (1) a boundary revision for Stillwater NWR, and (2) the framework of a comprehensive conservation plan, including refuge goals, objectives, and strategies for achieving the purposes for which each refuge was established and for contributing toward the mission of the Refuge System.

Boundary Revision

Public Law 101-618 authorized the Secretary of the Interior (Secretary) to recommend to Congress boundary revisions to Stillwater NWR that may be appropriate to carry out the purposes of the refuge and to facilitate the protection and enhancement of Lahontan Valley wetland habitat. The law authorized the Secretary to recommend the transfer of any Bureau of Reclamation withdrawn public lands within the existing wildlife use areas in the Lahontan Valley to the Service for addition to the Refuge System. Furthermore it authorized the identification of lands in the Lahontan Valley currently under the jurisdiction of the Service that no longer warrant continued status as units of the Refuge System.

Comprehensive Conservation Plan

A comprehensive conservation plan is required by the National Wildlife Refuge System Administration Act of 1966 (16 U.S.C. 6688dd et seq.), as amended. The purpose of developing a comprehensive conservation plan for the Stillwater NWR Complex is to provide managers with a 15-year strategy for achieving refuge purposes and contributing toward the mission of the Refuge System, consistent with sound principles of fish and wildlife conservation and legal mandates. In addition to outlining broad management direction on conserving wildlife and their habitat, the comprehensive conservation plan will highlight wildlife-dependent recreation opportunities available to the public, including opportunities for hunting, environmental education, and wildlife observation and photography.

Draft EIS Issues and Alternatives Being Considered

Six major issues were identified through scoping. They are (1) potential effects on populations of fish, wildlife, and plants, (2) potential effects on habitat and ecosystem functioning, (3) potential effects on recreational, educational, and interpretive opportunities, (4) potential effects on the local agriculture and socio-economy, and the Newlands irrigation project, (5) potential effects on cultural resources, and (6) potential effects on Naval Air Station-Fallon operations.

The Draft EIS identifies and provides an evaluation of four alternative boundaries for Stillwater NWR and management approaches for managing the Stillwater NWR Complex for the next 15 years. The four alternatives considered in detail in the Draft EIS are as follows. Alternative A (No Action Alternative) would retain the existing boundaries and entails baseline management as outlined in the 1987 Management Plan for Stillwater WMA and modified by the U.S. Fish and Wildlife Service's (Service's) water-rights acquisition program. Water rights acquired for refuge wetlands would continue to be delivered to the refuge according to the traditional agricultural seasonal-pattern of delivery in the irrigation district. Habitat management would emphasize breeding habitat for waterfowl and other waterbirds and would also provide for the needs of migrating and wintering waterfowl; livestock grazing and muskrat trapping would be managed commensurate with wildlife objectives on a large part of the area; and hunting remain the priority public use and would continue to be a coequal purpose with wildlife conservation.

Alternative B would result in the lands within Stillwater WMA reverting back to U.S. Bureau of Reclamation or public land status, thus reducing the amount of Federal land managed primarily for wildlife conservation in the Lahontan Valley. This alternative would focus on providing fall and winter habitat for waterfowl on Stillwater NWR (and would emphasize fall deliveries of acquired water rights), but would also provide habitat for breeding waterbirds. Livestock grazing and muskrat trapping would only be used as a habitat management tool. Opportunities for waterfowl hunting on Stillwater NWR would continue to be emphasized, although opportunities for wildlife viewing and environmental education would be expanded. Providing breeding habitat for waterbirds would be emphasized on Fallon NWR.

Under Alternative C (Service's Preferred Alternative), Stillwater NWR would be expanded to include most of Stillwater WMA and Fallon NWR and to include additional riparian and dune habitat, although the overall amount of Federal land managed for wildlife conservation in the Lahontan Valley would decline. This alternative would emphasize the approximation of natural biological diversity, including breeding habitat for waterbirds. The natural seasonal pattern of water inflow would be approximated, with adjustments to minimize nest flooding and to enhance fall and winter habitat for waterfowl. Livestock grazing would have limited application in the habitat management program, and muskrat trapping would primarily be undertaken to prevent damage to water-control structures. Waterfowl hunting would continue to be an integral part of the public use program under Alternative C, but environmental education and wildlife observation would receive considerably greater emphasis.

Alternative D would expand the boundary of Stillwater NWR to include all of Stillwater WMA and Fallon NWR and additional riparian and dune habitat. This alternative would focus on restoring natural hydrologic patterns and other ecological processes. Protection and restoration of riparian habitat would receive enhanced emphasis, and livestock grazing and muskrat trapping would not be used in the habitat management program and would be prohibited. Public use management would focus on providing opportunities for wildlife observation and environmental education, and hunting opportunities would diminish.

Maps of each alternative boundary and public use zones are provided in the Draft EIS and summary document. In all alternatives, Anaho Island NWR would be managed much as it has in the past, with a continued emphasis on protecting the nesting colony of American white pelicans and other colony-nesting birds that use the island.

Other governmental agencies, tribes, and members of the general public contributed to the planning and evaluation of the Draft EIS. The Notice of Intent to prepare an EIS was published in the Federal Register on March 14, 1997 (62 FR 12245) by the Department of the Interior. The Service has given presentations to county officials, conservation groups, other interested parties and the media, and informed the public through intermittent distribution of planning updates. Copies of the Draft EIS or a Summary have been sent to all agencies and individuals who participated in the scoping process and to all others who have already requested copies.

Dated: April 6, 2000.
Elizabeth H. Stevens,
Acting CA/NV Operations Manager.

[FR Doc. 00-9047 Filed 4-13-00; 8:45 am]

BILLING CODE 4310-55-P